SECURITIES AND EXCHANGE COMMISSION

[Release No. 34-87260; File No. 265-30]

Fixed Income Market Structure Advisory Committee

AGENCY: Securities and Exchange Commission.

ACTION: Notice of meeting.

SUMMARY: Notice is being provided that the Securities and Exchange Commission Fixed Income Market Structure Advisory Committee will hold a public meeting on Monday, November 4, 2019 in Room 443 at the Commission's New York Regional Office, 200 Vesey Street, New York, NY 10281. The meeting will begin at 9:00 a.m. (ET) and will be open to the public. Pre-registration is required in order to attend the meeting in person (see below for information on pre-registration). The meeting will be webcast on the Commission's website at www.sec.gov. Persons needing special accommodations to take part because of a disability should notify the contact persons listed below. The public is invited to submit written statements to the Committee. The meeting will include updates and presentations from the subcommittees and discussions on secondary market trading in government securities.

DATES: The public meeting will be held on November 4, 2019. Written statements should be received on or before October 30, 2019.

ADDRESSES: The meeting will be held at the Commission's New York Regional Office, 200 Vesey Street, New York, NY 10281. Written statements may be submitted by any of the following methods:

Electronic Statements

• Use the Commission's internet submission form (http://www.sec.gov/rules/other.shtml); or

• Send an email message to rule-comments@sec.gov. Please include File Number 265-30 on the subject line; or

Paper Statements

• Send paper statements in triplicate to Vanessa A. Countryman, Federal Advisory Committee Management Officer, Securities and Exchange Commission, 100 F Street NE, Washington, DC 20549-1090.

All submissions should refer to File No. 265-30. This file number should be included on the subject line if email is used. To help us process and review your statement more efficiently, please use only one method. The Commission will post all statements on the Commission's internet website at http://www.sec.gov/comments/265-30/265-30.shtml.

Statements also will be available for website viewing and printing in the Commission's Public Reference Room, 100 F Street NE, Room 1580, Washington, DC 20549, on official business days between the hours of 10:00 a.m. and 3:00 p.m. All statements received will be posted without change. Persons submitting comments are cautioned that we do not redact or edit personal identifying information from submissions. You should submit only information that you wish to make available publicly.

FOR FURTHER INFORMATION CONTACT: David Dimitrious, Senior Special Counsel, at (202) 551-5131, or Ben Bernstein, Senior Special Counsel, at (202) 551-5354, Division of Trading and Markets, Securities and Exchange Commission, 100 F Street NE, Washington DC 20549-7010.

SUPPLEMENTARY INFORMATION: All members of the public who wish to attend the meeting in person must register by October 30, 2019. To register, please complete the registration form available at the FIMSAC's web page at https://www.sec.gov/spotlight/fixed-income-advisory-committee. Upon arrival, all attendees will be required to sign in and be processed through security at the visitors desk. Please bring a government issued photo identification and allow extra time before the start of the meeting.

In accordance with Section 10(a) of the Federal Advisory Committee Act, 5 U.S.C.-App. 1, and the regulations thereunder, Brett Redfearn, Designated Federal Officer of the Committee, has ordered publication of this notice.

Dated: October 9, 2019.
Vanessa A. Countryman,
Committee Management Officer.

[FR Doc. 2019-22433 Filed 10-11-19; 8:45 am]

BILLING CODE 8011-01-P